DEPARTMENT OF AGRICULTURE

Forest Service

Allegheny National Forest, Bradford Ranger District; Environmental Impact Statement: Willow Creek All-Terrain Vehicle (ATV) Trail Expansion Project

AGENCY: Bradford Ranger District, Allegheny National Forest, Forest Service (USFS), Department of Agriculture (USDA).

ACTION: Notice of Intent to prepare an Environmental Impact Statement.

SUMMARY: The U.S. Department of Agriculture (USDA) Forest Service, Allegheny National Forest (ANF), Bradford Ranger District is issuing this notice to advise the public that the agency intends to prepare an Environmental Impact Statement (EIS) for the proposed Willow Creek All-Terrain Vehicle (ATV) Trail Expansion Project (WCATEP). The proposed trail improvements and expansion would be located on the Bradford Ranger District of the ANF in northwestern Pennsylvania. Trail construction and associated activities are being considered and analyzed within a project area of approximately 18,163 acres located both the Willow Creek and Sugar Run Watersheds in Corydon Township within McKean County. The purpose of this proposed project is to implement management direction as outlined in the ANF Land and Resource Management Plan by addressing site-specific needs and opportunities to expand the forest's 108-mile existing ATV/OHM trail system. The proposed project is under consideration to respond to a fast growing recreation activity on the forest, the high use on the existing ATV/OHM trails system, and the demand for more ATV trail miles.

Description of the Proposed Action: The USDA Forest Service, ANF, Bradford Ranger District is proposing rehabilitation work on the existing 10.8-mile Willow Creek ATV/OHM Trail and development of approximately 44 miles of additional ATV trail within the Marshburg/Stickney Intensive Use Area (Management Areas 2.0, 3.0, and 6.1). The current trail system does not provide adequate trail riding opportunities for families seeking multiple day riding experiences with direct access camping. New trail development would focus on family oriented trail riding at the beginner/intermediate level. Camping opportunities would include seven designated dispersed sites with direct access to the trail system, plus the development of four staging areas. These areas would provide families with overnight camping, hardened parking areas, toilet facilities, and information kiosks. At project completion, there would be two trailhead facilities in the project area for day use parking. An existing trailhead in the north would be expanded, and a new trailhead facility would be constructed in the south. The following activities would be proposed in the project area:

• Reconstruct 10.8 miles of existing trail;

• Construct 44 miles of new trail;

• Utilize 0.6 miles of existing Allegheny Snowmobile Loop (ASL) for summer ATV season;

• Utilize 5.7 miles of existing gated Forest Road for summer ATV season;

• Develop two trailhead parking areas for day use (50 vehicles with trailers per trailhead);

• Develop four staging areas with overnight camping opportunities (5-10 acres each);

• Implement approximately 1,800 feet of joint use (ATV/motor vehicle) on Forest Roads 176, 173, and 435 to utilize existing stream crossings;

• Connect seven dispersed camping sites to the ATV trail system;

• Construction of .7 miles of new road from FR 176a to proposed staging areas off of FR 679.

Construction of this project is expected to occur during the construction seasons of 2006-2007, provided that funding is available.

Scoping Process: As advertised in The Bradford Era (March 26, 2004), the USDA Forest Service will host a public scoping meeting in Bradford, PA, on April 27, 2004, from 7 to 9 p.m., for the proposed Willow Creek ATV Trail Expansion Project. The meeting will be held at the University of Pittsburgh at Bradford (300 Campus Drive, Bradford, PA 16701) in the University Room, which is a fully accessible facility. The purpose of the public scoping meeting is to provide the opportunity for the public to participate in the National Environmental Policy Act (NEPA) process and for the USDA Forest Service to present the history of the proposed project and the proposed action; solicit information, concerns, and recommendations from the public; and begin an open dialogue with the public regarding this proposed project. For planning purposes, we ask that parties interested in speaking at the public scoping meeting notify the USDA Forest Service no later than 4 p.m. on April 26, 2004, by calling Mr. Mark Conn at the telephone number below. All remarks will be limited to a single 3- to 5-minute time frame. Comment cards also will be provided at the meeting to allow interested parties to submit written comments.

Interested parties also are invited to provide written comments on the proposed project via post or electronic mail. Written comments must be postmarked or received within 30 days beginning the day following publication of this notice. Comments should be sent to: Bradford Ranger District, 29 Forest Service Drive, Bradford, PA 16370. Telephone: (814) 362-4613; fax: (814) 362-2761.

Oral or hand-delivered comments are acceptable. Comments may be mailed electronically in a common digital format to our office at: comments-eastern-alleghenybradford@fs.fed.us. When commenting by e-mail, please list “Willow Creek EIS” on the subject line and include your name and mailing address.

Background Information: Demand for OHV trails is at an all time high across the United States. There are few legal riding areas in the eastern United States, even though demand for such opportunities is high. The ANF trail system is well known nationally with riders coming from as far away as Colorado, Florida, and Texas. However, the majority of users originate from the northeast and Mid-Atlantic States (Pennsylvania, Ohio, and New York). In Pennsylvania, there are (234) miles of trail on State Forest Land, 150 acres of open riding (no trails) on U.S. Army Corps of Engineers land, and 108 miles on the ANF. Ohio offers (116) miles of ATV trail (Wayne National Forest). New York has no public ATV trails.

The ANF has offered OHV trails since the late 1970s. ATVs were developed in the 1980s and sales in Pennsylvania significantly increased with time (registered ATVs in Pennsylvania number approximately 180,000, unregistered exceeds approximately 485,000). Pennsylvania leads the eastern United States in ATV sales and ranks third nationally. Demand for more OHV trail miles on the forest is high.

ANF personnel have observed sharp increases in ATV riding over the last decade. The ANF Recreation Strategy (2002) identified ATV riding as the fastest growing recreation activity on the forest. The 1986 ANF Forest Plan lists a goal of 350 miles of summer motorized ATV/OHM trails by 2006. The current trail system totals 108 miles. There are five separate trails within four Intensive Use Areas (IUAs) throughout the forest. The Forest Plan limits designation of summer-motorized trails to the five IUAs, which encompass approximately 20 percent of the ANF's land base.

The USDA Forest Service identified the Marshburg/Stickney IUA as a priority for managing ATV recreational opportunities to meet the growing demand while assuring protection of natural resources. The existing 10.8-mile Willow Creek ATV Trail is located within this IUA. It is classified as “More Difficult,” which is recommended for intermediate riders. The trail was not designed for riders of various skill levels and does not provide a full day riding opportunity. A contract trail assessment completed in 2000 by Trails Unlimited of Arcadia, California, determined that the Marshburg/Stickney IUA had the capability of providing a multiple mile trail system.

The proposed project would be a cooperative effort, made possible by a 2003 is being made possible through a multiple partnership grant agreement from the Pennsylvania Department of Conservation and Natural Resources to McLean County and administered by the U.S. Forest Service. Partners are looking forward to the expected economic development that this project should provide to the local communities.

FOR FURTHER INFORMATION CONTACT: For more information about the public scoping meeting or the proposed project in general, please visit our Web site (http://www.fs.fed.us/r9/forests/allegheny) or contact: Mr. Mark Conn, Forest Trails Planner/Coordinator, Allegheny National Forest, Warren, PA 16365, E-mail: mwconn@fs.fed.us, phone: (814) 723-5150.

Dated: March 31, 2004.
Kevin B. Elliott,
Forest Supervisor.

[FR Doc. 04-7703 Filed 7-8-04; 8:45 am]

BILLING CODE 3416-11-M